DEPARTMENT OF ENERGY

Federal Energy Regulatory Commission

Notice of Conference Call

| Docket Nos.
American Electric Power Service Corporation v. Midcontinent Independent System Operator, Inc. | EL18-7-000
Midwest Independent Transmission System Operator, Inc. | ER05-6-118
Midwest Independent Transmission System Operator, Inc. PJM Interconnection, LLC, et al. | EL04-135-120
Midwest Independent Transmission System Operator, Inc. PJM Interconnection, LLC, et al. | EL02-111-139
Ameren Services Company, et al. | EL03-212-134
Midwest Independent Transmission System Operator, Inc. | ER10-2283-000, ER10-2283-001

On Wednesday, February 14, 2018, Commission staff will hold a conference call with Midcontinent Independent System Operator, Inc. (MISO) beginning at 1:30 p.m. (Eastern Time). The call is intended to address factual questions related to the identification of replacement suppliers for the Nicor Energy, L.L.C., Engage Energy America LLC, and New Power Company Seams Elimination Charge/Cost Adjustments/Assignments (SECA) sub-zones and the calculation of MISO-assessed “Variable SECA” charges. The discussion at the conference call will be limited to informational, factual questions.

Any party, as defined by 18 CFR 385.102(c), or any participant as defined by 18 CFR 385.102(b), is invited to listen to the conference call. Persons wishing to become a party must move to intervene and receive intervenor status pursuant to the Commission's regulations (18 CFR 385.214).

The conference call will not be webcasted or transcribed. However, an audio listen-only line will be provided. Those wishing to access the listen-only line must email Andre Goodson (andre.goodson@ferc.gov) by 5:00 p.m. (Eastern Time) on Friday, February 9, 2018, with your name, email, and phone number, in order to receive the call-in information the day before the conference call. Please use the following text for the subject line, EL18-7-000 listen-only line registration.

Commission conferences are accessible under section 508 of the Rehabilitation Act of 1973. For accessibility accommodations, please send an email to accessibility@ferc.gov or call toll free 1 (866) 208-3372 (voice) or (202) 208-1659 (TTY), or send a FAX to (202) 208-2106 with the required accommodations.

For additional information, please contact Andre Goodson at (202) 502-8560, andre.goodson@ferc.gov.

Dated: February 7, 2018.
Kimberly D. Bose,
Secretary.

[FR Doc. 2018-02963 Filed 2-13-18; 8:45 am]

BILLING CODE 6717-01-P